ENVIRONMENTAL PROTECTION AGENCY

[EPA-HQ-OECA-2014-0057; FRL-9920-09-OEI]

Information Collection Request Submitted to OMB for Review and Approval; Comment Request; NESHAP for Wood Furniture Manufacturing Operations (Renewal)

AGENCY: Environmental Protection Agency (EPA).

ACTION: Notice.

SUMMARY: The Environmental Protection Agency has submitted an information collection request (ICR), “NESHAP for Wood Furniture Manufacturing Operations (40 CFR part 63, subpart JJ) (Renewal)” (EPA ICR No. 1716.09, OMB Control No. 2060-0324) to the Office of Management and Budget (OMB) for review and approval in accordance with the Paperwork Reduction Act (44 U.S.C. 3501 et seq). This is a proposed extension of the ICR, which is currently approved through January 31, 2015. Public comments were previously requested via the Federal Register (79 FR 30117) on May 27, 2014 during a 60-day comment period. This notice allows for an additional 30 days for public comments. A fuller description of the ICR is given below, including its estimated burden and cost to the public. An Agency may not conduct or sponsor, and a person is not required to respond to, a collection of information unless it displays a currently valid OMB control number.

DATES: Additional comments may be submitted on or before February 20, 2015.

ADDRESSES: Submit your comments, referencing Docket ID Number EPA-HQ-OECA-2014-0057, to (1) EPA online using www.regulations.gov (our preferred method), by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: The potential respondents are owners or operators of any existing or new affected source with wood furniture manufacturing operations. There are an estimated 406 existing major sources and 450 existing incidental/area sources subject to the Wood Furniture Manufacturing NESHAP. The affected source is any wood furniture manufacturing facility that is engaged, either in part or in whole, in the manufacture of wood furniture or wood furniture components and that is located at a plant site that is a major source as defined in 40 CFR part 63.2, excluding sources that meet the criteria established in § 63.800(a), (b), and (c) of the Wood Furniture Manufacturing NESHAP.

Form Numbers: None.

Respondents/affected entities: Owners and operators of wood furniture manufacturing facilities.

Respondent's obligation to respond: Mandatory (40 CFR part 63, subpart JJ).

Estimated number of respondents: 856 (total).

Frequency of response: Initially, occasionally, quarterly, semiannually, and annually.

Total estimated burden: 66,235 hours (per year). Burden is defined at 5 CFR 1320.3(b).

Total estimated cost: $6,509,219 (per year), which includes $24,600 annualized capital and/or operation & maintenance costs.

Changes in the Estimates: There is an increase of 17,045 hours in the total estimated respondent burden as currently identified in the OMB Inventory of Approved Burdens. The active (previous) ICR added the burden from the existing final rule (ICR No. 1716.06) and the rule amendment (ICR No. 1716.08), but did not update the number of affected major sources subject to the existing rule to reflect the most recent information received at the time by the Agency. In this ICR, we have addressed this inconsistency by updating the burden calculations to reflect the appropriate number of major sources. This correction resulted in the observed increase in respondent burden.

There is an increase in the O&M cost as compared to the active (previous) ICR. This increase also is the result of updating calculations to reflect the appropriate number of major sources.

Courtney Kerwin,
Acting-Director, Collection Strategies Division.

[FR Doc. 2015-00865 Filed 1-20-15; 8:45 am]

BILLING CODE 6560-50-P